DEPARTMENT OF DEFENSE

Office of the Secretary

[Transmittal No. 22-0B]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives and Transmittal 22-0B.

Dated: July 25, 2023.
Aaron T. Siegel,
Alternate OSD Federal Register Liaison Officer, Department of Defense.

BILLING CODE 5001-06-P

BILLING CODE 5001-06-C

Transmittal No. 22-0B

REPORT OF ENHANCEMENT OR UPGRADE OF SENSITIVITY OF TECHNOLOGY OR CAPABILITY (SEC. 36(B)(5)(C), AECA)

(i) Purchaser: Republic of Korea

(ii) Sec. 36(b)(1), AECA Transmittal No.: 20-86

Date: December 1, 2020

Military Department: Navy

(iii) Description: On December 1, 2020, Congress was notified by Congressional certification transmittal number 20-86, of the possible sale, under Section 36(b)(1) of the Arms Export Control Act, of two (2) MK 15 MOD 25 Phalanx Close-In Weapons System (CIWS) Block 1B Baseline 2 (IB2) systems; and four thousand (4,000) rounds, 20MM cartridge API linked. Also included were spare parts; other support equipment; ammunition; books and other publications; software; training; engineering technical assistance and other technical assistance; and other related elements of program and logistical support. The estimated total cost was $39 million. Major Defense Equipment (MDE) constituted $30 million of this total.

This transmittal notifies the inclusion of an additional four (4) MK 15 Phalanx Close-in Weapons System (CIWS) Block 1B Baseline 2 systems (MDE). Also included is AA20 ammunition; AA61 ammunition; spare and repair parts including those needed to support installation; support and test equipment; personnel training and training equipment, publications and technical documentation; U.S. Government and contractor engineering; technical and logistics support services; and other related elements of program and logistics support. The total estimated MDE value will increase by $66 million, resulting in a new MDE total of $96 million. The total estimated case value will increase to $129 million.

(iv) Significance: The proposed sale will improve Republic of Korea's capability to meet current and future threats by being able to defeat anti-ship missiles and close-in threats that have pierced other lines of defense.

(v) Justification: This proposed sale will support the foreign policy goals and national security objectives of the United States by improving the security of a Major Non-NATO Ally that is a force for political stability and economic progress in the Pacific region.

(vi) Sensitivity of Technology: The Sensitivity of Technology statement contained in the original notification applies to items reported here.

The highest level of classification of defense articles, components, and services included in this potential sale is CONFIDENTIAL.

(vii) Date Report Delivered to Congress: January 21, 2022.

[FR Doc. 2023-16078 Filed 7-27-23; 8:45 am]

BILLING CODE 5001-06-P